DEPARTMENT OF ENERGY

Office of Energy Efficiency and Renewable Energy

[Docket No. EERE-2011-BT-BC-0046]

Building Energy Codes Cost Analysis

AGENCY: Office of Energy Efficiency and Renewable Energy, Department of Energy.

ACTION: Notice of reopening the public comment period.

SUMMARY: This notice announces a reopening of the time period for submitting comments on the request for information on Building Energy Codes Cost Analysis published in the Federal Register on September 13, 2011. 76 FR 56413. The original comment period closed on October 13, 2011. The comment period is reopened for an additional 30 days.

DATES: Comments must be received no later that November 18, 2011.

ADDRESSES: Any comments submitted must identify the request for information on Building Energy Code Cost Analysis and provide docket number EERE-2011-BT-BC-0046. Comments may be submitted using any of the following methods:

• Federal eRulemaking Portal: http://www.regulations.gov. Follow the instructions for submitting comments.

• E-mail: Res-CEAM-2011-BC-0046@ee.doe.gov. Include EERE-2011-BT-BC-0046 in the subject line of the message. Submit electronic comments in WordPerfect, Microsoft Word, PDF, or ASCII file format and avoid the use of special characters or any form of encryption.

• Postal Mail: Ms. Brenda Edwards, U.S. Department of Energy, Building Technologies Program, Mailstop EE-2J, 1000 Independence Avenue, SW., Washington, DC 20585-0121. Telephone: (202) 586-2945. Please submit one signed original paper copy.

• Hand Delivery/Courier: Ms. Brenda Edwards, U.S. Department of Energy, Building Technologies Program, 950 L'Enfant Plaza, SW., 6th Floor, Washington, DC 20024. Please submit one signed original paper copy.

Docket: For access to the docket to read background documents or comments received, please call Ms. Brenda Edwards at the above telephone number for additional information.

FOR FURTHER INFORMATION CONTACT: Requests for additional information may be sent to Ms. Kym Carey, U.S. Department of Energy, Office of Energy Efficiency and Renewable Energy, Building Technologies Program, EE-2J, 1000 Independence Avenue, SW., Washington, DC 20585-0121. Telephone: 202-287-1775. E-mail: Kym.Carey@ee.doe.gov.

For legal issues contact Kavita Vaidyanathan, U.S. Department of Energy, Office of the General Counsel, Forrestal Building, Mailstop GC-71, 1000 Independence Ave., SW., Washington, DC 20585, Telephone: (202) 586-0669, E-mail: kavita.vaidyanathan@hq.doe.gov.

SUPPLEMENTARY INFORMATION: On September 13, 2011, the U.S. Department of Energy (DOE or the Department) published a request for information (RFI) in the Federal Register (76 FR 56413) to request information on how the Department may improve the methodology it intends to use for assessing cost effectiveness (which includes an energy savings assessment) of changes to residential building energy codes. The RFI provided for the submission of comments by October 13, 2011. Commenters requested an extension of the comment period given the extensive analysis required to complete a thorough response. DOE has determined that a reopening of the public comment period is appropriate based on the complexity of the issues to be considered in the analysis and the need for interested parties to submit a thorough response—and is hereby reopening the comment period. DOE will consider any comments received by the date presented in the DATES section of this notice.

Further Information on Submitting Comments

Under 10 CFR 1004.11, any person submitting information that he or she believes to be confidential and exempt by law from public disclosure should submit two copies: one copy of the document including all the information believed to be confidential, and one copy of the document with the information believed to be confidential deleted. DOE will make its own determination about the confidential status of the information and treat it according to its determination.

Factors of interest to DOE when evaluating requests to treat submitted information as confidential include (1) A description of the items, (2) whether and why such items are customarily treated as confidential within the industry, (3) whether the information is generally known by or available from other sources, (4) whether the information has previously been made available to others without obligation concerning its confidentiality, (5) an explanation of the competitive injury to the submitting person which would result from public disclosure, (6) when such information might lose its confidential character due to the passage of time, and (7) why disclosure of the information would be contrary to the public interest.

Issued in Washington, DC, on October 13, 2011.
Kathleen B. Hogan,
Deputy Assistant Secretary for Energy Efficiency, Energy Efficiency and Renewable Energy.

[FR Doc. 2011-27049 Filed 10-18-11; 8:45 am]

BILLING CODE 6450-01-P